DEPARTMENT OF HEALTH AND HUMAN SERVICES

Administration for Children and Families

Proposed Information Collection Activity; Child Care and Development Fund (CCDF) Consumer Education Website and Reports of Serious Injuries and Death

AGENCY: Office of Child Care, Administration for Children and Families; HHS.

ACTION: Request for public comment.

SUMMARY: The Office of Child Care (OCC), Administration for Children and Families (ACF), U.S. Department of Health and Human Services (HHS), is proposing a revision to an approved information collection: “Child Care and Development Fund (CCDF) Consumer Education website and Reports of Serious Injuries and Death.” (OMB #0970-0473, expiration 2/29/2020).

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: The revised Consumer Education website reporting requirement will require states and territories to include certain information about their state or territory policies (related to background checks) on their Consumer Education websites.

The existing Reporting of Serious Injuries and Death reporting requirement will not be modified.

There are no standard federal forms associated with these reporting requirements.

Respondents: The Consumer Education website information collection requirement applies to the 50 States, the District of Columbia, and five Territories that receive CCDF grants. The estimated number of provider respondents for the Reporting of Serious Injuries and Death information collection requirement would be approximately 10,000 annually.

Annual Burden Estimates
Instrument | Annual number of respondents | Total number of responses per respondent | Average burden hours per response | Annual burden hours
Consumer Education Website | 56 States and Territories | 1 | 300 | 16,800
Reporting of Serious Injuries and Death | 10,000 Child Care Providers | 1 | 1 | 10,000

Estimated Total Annual Burden Hours: 26,800.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Pub. L. 113-186; 42 U.S.C. 9858 et seq.

Mary B. Jones,
ACF/OPRE Certifying Officer.

[FR Doc. 2019-27478 Filed 12-19-19; 8:45 am]

BILLING CODE 4184-43-P